DEPARTMENT OF EDUCATION

Application for New Awards; Indian Education Formula Grants to Local Educational Agencies

AGENCY: Office of Elementary and Secondary Education, Department of Education.

ACTION: Notice.

SUMMARY: The Department of Education is issuing a notice inviting applications for new awards for fiscal year (FY) 2019 for Indian Education Formula Grants to Local Educational Agencies, Catalog of Federal Domestic Assistance (CFDA) number 84.060A.

DATES:

Part I of Electronic Application System for Indian Education (EASIE) Applications Available: February 4, 2019.

Deadline for Transmittal of EASIE Part I: March 7, 2019.

Part II of EASIE Applications Available: April 1, 2019.

Deadline for Transmittal of EASIE Part II: May 16, 2019.

FOR FURTHER INFORMATION CONTACT: For questions about the Formula Grants program, contact Kimberly Smith, U.S. Department of Education, 400 Maryland Avenue SW, Room 3W221, Washington, DC 20202-6335. Telephone: (202) 453-6459. Email: Kimberly.smith@ed.gov. For technical questions about the EASIE application and uploading documentation, contact the EDFacts Partner Support Center (PSC). Telephone: 877-457-3336 (877-HLP-EDEN). Email: eden_OIE@ed.gov.

If you use a telecommunications device for the deaf (TDD) or a text telephone (TTY), contact the Federal Relay Service (FRS), toll free, at 1-800-877-0996 or by email at: federalrelay@sprint.com.

SUPPLEMENTARY INFORMATION:

Note: Applicants must meet the deadlines for both EASIE Part I and Part II to be eligible to receive a grant. Failure to submit the required supplemental documentation, described under Content and Form of Application Submission in section IV of this notice, by the EASIE Part I or II deadline will result in an incomplete application that will not be considered for funding. The Office of Indian Education (OIE) recommends uploading the documentation at least two days prior to each deadline date to ensure that any potential submission issues are resolved prior to the deadlines.

I. Funding Opportunity Description

Purpose of Program: The Indian Education Formula Grants to Local Educational Agencies (Formula Grants) program provides grants to support local educational agencies (LEAs), Indian Tribes and organizations, and other eligible entities in developing elementary and secondary school programs that serve Indian students. The U.S. Department of Education (Department) funds comprehensive programs that are designed to meet the unique cultural, language, and educational needs of American Indian and Alaska Native (AI/AN) students and ensure that all students meet challenging State academic standards.

As authorized under section 6116 of the Elementary and Secondary Education Act of 1965, as amended by the Every Student Succeeds Act (ESEA), the Secretary will, upon receipt of an acceptable plan for the integration of education and related services, and in cooperation with other relevant Federal agencies, authorize the entity receiving the funds under this program to consolidate all Federal funds that are to be used exclusively for Indian students. Instructions for submitting an integration of education and related services plan are included in the EASIE, which is described under Application and Submission Information in section IV of this notice.

Note: Under the Formula Grants program, all applicants are required to develop proposed projects in open consultation, including through public hearings held to provide a full opportunity to understand the program and to offer recommendations regarding the program (section 6114(c)(3)(C) of the ESEA), with parents of Indian children and teachers of Indian children, representatives of Indian Tribes on Indian lands located within 50 miles of any school that the LEA will serve if such Tribes have any children in such school, Indian organizations (IOs), and, if appropriate, Indian students from secondary schools. LEA applicants are required to develop proposed projects with the participation and written approval of a parent committee whose membership includes parents and family members of Indian children in the LEA's schools; representatives of Indian Tribes on Indian lands located within 50 miles of any school that the LEA will serve if such Tribes have any children in such school; teachers in the schools; and, if appropriate, Indian students attending secondary schools of the LEA (section 6114(c)(4) of the ESEA). The majority of the parent committee members must be parents and family members of Indian children (section 6114(c)(4) of the ESEA).

Definitions: The following definition is from section 6112(d)(3) of the ESEA:

Indian community-based organization (ICBO) means any organization that (1) is composed primarily of Indian parents, family members and community members, tribal government educational officials, and tribal members, from a specific community; (2) assists in the social, cultural, and educational development of Indians in such community; (3) meets the unique cultural, language, and academic needs of Indian students; and (4) demonstrates organizational and administrative capacity to manage the grant.

Statutory Hiring Preference:

(a) Awards that are primarily for the benefit of Indians are subject to the provisions of section 7(b) of the Indian Self-Determination and Education Assistance Act (25 U.S.C. 5307(b)). That section requires that, to the greatest extent feasible, a grantee—

(1) Give to Indians preferences and opportunities for training and employment in connection with the administration of the grant; and

(2) Give to IOs and to Indian-owned economic enterprises, as defined in section 3 of the Indian Financing Act of 1974 (25 U.S.C. 1452(e)), preference in the award of contracts in connection with the administration of the grant.

(b) For purposes of this section, an Indian is a member of any federally recognized Indian Tribe (25 U.S.C. 1452(b)).

Program Authority: 20 U.S.C. 7421, et seq.

Applicable Regulations: (a) The Education Department General Administrative Regulations (EDGAR) in 34 CFR parts 75, 77, 81, 82, 84, 97, 98, and 99. (b) The Office of Management and Budget Guidelines to Agencies on Government-wide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Formula grants.

Estimated Available Funds: $105,381,000.

Estimated Range of Awards: $4,000 to $3,254,999.

Estimated Average Size of Awards: $81,062.

Estimated Number of Awards: 1,300.

Note: The Department is not bound by any estimates in this notice.

Project Period: 12 months.

III. Eligibility Information

1. Eligible Applicants: The following entities are eligible under this program: Certain LEAs, including charter schools authorized as LEAs under State law, as prescribed by section 6112(b) of the ESEA; certain schools funded by the Bureau of Indian Education of the U.S. Department of the Interior (BIE), as prescribed by section 6113(d) of the ESEA; Indian Tribes and IOs under certain conditions, as prescribed by section 6112(c) of the ESEA; and ICBOs, as prescribed by section 6112(d) of the ESEA. Consortia of two or more eligible entities are also eligible under certain circumstances, as prescribed by section 6112(a)(4) of the ESEA.

2. a. Cost Sharing or Matching: This program does not require cost sharing or matching.

b. Supplement-Not-Supplant: Section 6114(c)(1) of the ESEA requires an LEA to use these grant funds only to supplement the funds that, in the absence of these Federal funds, such agency would make available for services described in this application, and not to supplant such funds.

IV. Application and Submission Information

1. How to Request an Application Package: You can obtain a log-in and password for the electronic application for grants under this program by contacting the EDFacts PSC listed under FOR FURTHER INFORMATION CONTACT.

Individuals with disabilities can obtain a copy of the application package in an accessible format (e.g., braille, large print, audiotape, or compact disc) by contacting the EDFacts PSC listed under FOR FURTHER INFORMATION CONTACT.

2. Content and Form of Application Submission: Requirements concerning the content of an application, together with the forms you must submit, are located in the Getting Started page in the EDFacts System Portal.

a. Supplementary Documentation: The EASIE application requires submission of the following supplementary documentation in electronic Portable Document Format (PDF):

(i) In EASIE Part I, applicants that are Tribes, IOs, or ICBOs must submit the appropriate “Applying in Lieu of the LEA” agreement form with their application to verify their eligibility no later than March 7, 2019 (which is the closing date of EASIE Part I). Each separate eligibility document is identified by applicant-type as either: Tribe Applying in Lieu of an LEA Agreement; IO Agreement; or ICBO Agreement. These are available on the Getting Started page in the EDFacts System Portal as downloadable documents. The details of the verification process, which are necessary to meet the statutory eligibility requirements for Tribes, IOs, and ICBOs, are in the application package.

(ii) In EASIE Part I, an applicant that is the lead applicant for a consortium must use the consortium agreement that is available on the Getting Started page in the EDFacts System Portal as a downloadable document and upload it no later than March 7, 2019.

(iii) In EASIE Part II, for an applicant that is an LEA or a consortium of LEAs, the EASIE application requires the electronic PDF submission of the Indian Parent Committee Approval (PCA) form no later than the deadline for transmittal of EASIE Part II, which is May 16, 2019. Applicants are encouraged to begin planning parent committee meetings early to ensure parent committee signatures are obtained before EASIE Part II closes. The form is available on the Getting Started page in the EDFacts System Portal.

3. Submission Dates and Times: Part I of the Formula Grant EASIE Applications Available: February 4, 2019.

Deadline for Transmittal of EASIE Part I: March 7, 2019, 8:00 p.m., Washington, DC time.

Part II of the Formula Grant EASIE Applications Available: April 1, 2019.

Deadline for Transmittal of EASIE Part II: May 16, 2019, 8:00 p.m., Washington, DC time.

Submit applications for grants under this program electronically using EASIE located in the EDFacts System Portal. For information (including dates and times) about how to submit your application, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

4. Intergovernmental Review: This program is not subject to Executive Order 12372 and the regulations in 34 CFR part 79.

5. Funding Restrictions: Not more than five percent of the funds provided to a grantee may be used for administrative costs (section 6115(d) of the ESEA). We reference regulations outlining other funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following website: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

7. Other Submission Requirements:

a. Electronic Submission of Applications.

Electronic Application System for Indian Education (EASIE): EASIE is an electronic application found in the EDFacts System Portal at https://eden.ed.gov. It is divided into two parts—EASIE Part I and EASIE Part II.

EASIE Part I, student count, provides the appropriate data-entry screens to submit your verified, aggregated, Indian student count totals. All applicants must submit a current Indian student count for FY 2019. Applicants must use the Indian Student Eligibility Certification Form (ED 506 Form) to document eligible Indian students; however, BIE schools may use either the Indian School Equalization Program (ISEP) count or the ED 506 Form count to verify their Indian student counts. Applicants must protect the privacy of all individual data collected and only report aggregated data to the Secretary.

Applicants that verify their Indian student count with the ED 506 Form must document their Indian student counts by completing the following: (1) Each year, the applicant must verify there is a valid ED 506 Form for each Indian child included in the count; (2) all ED 506 Forms included in the count must be completed, signed, and dated by the parent, and be on file; (3) the applicant must maintain a copy of the student enrollment roster(s) covering the same period of time indicated in the application as the “count period”; and (4) each Indian child included in the count must be listed on the LEA's enrollment roster(s) for at least one day during the count period.

BIE schools that enter an ISEP count to verify their Indian student count must use the most current Indian student count certified by the BIE.

Once an Indian child is determined to be eligible to be counted for such grant award, the applicant must maintain a record of such determination and must not require a new or duplicate determination or form to be made for such child for a subsequent application for a grant under this program.

Applicants must also indicate the time span for the project objectives and corresponding activities and services for AI/AN students. Applicants can choose to set objectives that remain the same for up to four years in order to facilitate data collection and enhance long-term planning.

In EASIE Part II, all applicants must—

(1) Select the type of program being submitted as either regular formula grant program, formula grant project consolidated with a title I schoolwide program, or integration of services under section 6116 of the ESEA;

(2) Select the grade levels offered by the LEA or BIE school;

(3) Identify, from a list of possible Department grant programs (e.g., ESEA title I), the programs in the LEA that are currently coordinated with a title VI project, or with which the school district plans to coordinate during the project year, in accordance with section 6114(c)(5) of the ESEA, and describe the coordination of services for AI/AN students with those grant programs;

(4) Describe the professional development opportunities that will be provided as part of your coordination of services to ensure that teachers and other school professionals who are new to the Indian community are prepared to work with Indian children, and that all teachers who will be involved in programs assisted by this grant have been properly trained to carry out such programs, as required by section 6114(b)(5);

(5) Provide information on how the State assessment data of all Indian students (not just those served) are used. Indicate how you plan to disseminate information to the Indian community, parent committee, and Indian Tribes whose children are served by the LEA and how assessment data from the previous school year (SY) were used, as required by section 6114(b)(6) of the ESEA;

(6) Indicate when the public hearing was held for SY 2019, as required by section 6114(c)(3)(C).

(7) For an applicant that is an LEA, BIE school, or a consortium of LEAs or BIE schools, describe the process the applicant used to meaningfully collaborate with Indian Tribes located in the community in a timely, active, and ongoing manner in the development of the comprehensive program and the actions taken as a result of such collaboration (section 6114(b)(7));

(8) Identify specific project objectives that will further the goal of providing culturally responsive education for AI/AN students to meet their academic needs and help them meet State achievement standards (section 6115(b)), and identify the data sources that will be used to measure progress towards meeting project objectives;

(9) For an LEA that selects a schoolwide application, identify how the use of such funds in a schoolwide program will produce benefits to Indian students that would not be achieved if the funds were not used in a schoolwide program (section 6115(c)(3));

(10) Submit a program budget based on the estimated grant amount that the EASIE system calculates from the Indian student count you submitted in EASIE Part I. After the initial grant amounts are determined, additional funds may become available due to such circumstances as withdrawn applications or reduction in an applicant's student count. An applicant whose award amount increases or decreases more than $5,000 must submit a revised budget prior to receiving its grant award but will not need to re-certify its application. If an applicant's award amount increases or decreases by less than $5,000, a budget update is not required. For an applicant that receives an increased award amount following submission of its original budget, the applicant must allocate the increased amount only to previously approved budget categories;

(11) As required by section 427 of the General Education Provisions Act (GEPA), describe the steps the applicant proposes to take to ensure equitable access to, and participation in, the project or activity to be conducted with such assistance, by addressing the special needs of students, teachers, and other program beneficiaries in order to overcome barriers to equitable participation, including barriers based on gender, race, color, national origin, disability, and age; and

(12) If needed, provide additional comments to assist OIE in the review of the application.

Registration for Formula Grant EASIE: Current, former, and new applicants interested in submitting a Formula Grant EASIE application must register for Formula Grant EASIE. Prior to the opening of EASIE Part I, EDFacts PSC will send a broadcast to prior year grantees and new prospective applicants that have contacted EDFacts PSC and registered for EASIE. All recipients who receive the EDFacts PSC's broadcast will be asked to respond to EDFacts PSC directly to confirm their intent to register and make updates to the registration information. Entities are strongly encouraged to respond to the email to ensure that any potential registration issues are resolved prior to the deadline for the submission of an application. Entities that do not have an active registration or are new applicants should contact the EDFacts PSC listed under FOR FURTHER INFORMATION CONTACT to register any time before the EASIE Part I application deadline date. Registration does not serve as the entity's grant application. For assistance registering, contact the EDFacts PSC listed under FOR FURTHER INFORMATION CONTACT.

Certification for Formula Grant EASIE: The applicant's authorized representative, who must be legally authorized by the applicant to approve the application, must certify EASIE Part I and Part II. Only users with the role type “managing user” or “certifying official user” in the EASIE system can certify an application. Each applicant should identify at least three system users, one for each of the following: Project director, authorized representative, and another party designated to answer questions in the event the project director is unavailable. The certification process ensures that the information in the application is true, reliable, and valid. An applicant that provides a false statement in the application is subject to penalties under the False Claims Act, 18 U.S.C. 1001.

b. Submission of Paper Applications by Mail.

We discourage paper applications, but if electronic submission is not possible (e.g., you do not have access to the internet), you must provide a written statement that you intend to submit a paper application. Send this written statement no later than two weeks before the application deadline date for EASIE Part I (14 calendar days or, if the fourteenth calendar day before the application deadline date falls on a Federal holiday, the next business day following the Federal holiday).

If you mail your written statement to the Department, it must be postmarked no later than two weeks before the application deadline date of EASIE Part I. If you fax your written statement to the Department, we must receive the faxed statement no later than two weeks before the application deadline date of EASIE Part I. If you email the written statement, it must be sent no later than two weeks before the application deadline date to the person listed under FOR FURTHER INFORMATION CONTACT.

Address and mail or fax your statement to: Kimberly Smith, U.S. Department of Education, Office of Indian Education, 400 Maryland Avenue SW, Room 3W221, Washington, DC 20202-6335. FAX: (202) 205-0606.

Your paper application must be submitted in accordance with the mail or hand delivery instructions described in this notice.

You must mail the original and two copies of your application, on or before the application deadline dates for both EASIE Part I and Part II, to the Department at the following address: U.S. Department of Education, Office of Indian Education, Attention: CFDA Number 84.060A, 400 Maryland Avenue SW, Room 3W221, Washington, DC 20202-6335.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date for EASIE Part I or Part II.

c. Submission of Paper Applications by Hand Delivery.

If you are submitting a paper application, you (or a courier service) may deliver your paper application to the Department by hand. You must deliver the original and two copies of your application by hand, on or before the application deadline dates for both EASIE Part I and Part II, to the Department at the following address: U.S. Department of Education, Office of Indian Education, Attention: CFDA Number 84.060A, 400 Maryland Avenue SW, Room 3W227, Washington, DC 20202-6335.

The program office accepts hand deliveries daily between 8:00 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the program under which you are submitting your application; and

(2) The program office will mail you a notification of receipt of your grant application. If you do not receive this notification within 15 business days from the application deadline date, you should contact the program office at (202) 260-3774.

V. Grant Administration Information

1. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

2. Administrative and National Policy Requirements: We identify administrative and national policy requirements in the application package and reference these and other requirements in the Applicable Regulations section of this notice. We reference the regulations outlining the terms and conditions of a grant in the Applicable Regulations section of this notice.

3. Reporting: (a) If you apply for a grant under this program, you must ensure that you have in place the necessary processes and systems to comply with the reporting requirements in 2 CFR part 170 should you receive funding. This does not apply if you have an exception under 2 CFR 170.110(b).

(b) You must submit an annual performance report (APR) using the EDFacts System Portal at https://eden.ed.gov, including financial information, as directed by the Secretary, within 90 days after the close of the grant year. The APR is located within the EDFacts System Portal under the EASIE Part III tab. Prior to the system being open to users, grantees will receive an email from the EDFacts PSC identifying the date that the APR will be available to grantees and the deadline for its transmission.

(c) Under 34 CFR 75.250(b), the Secretary may approve a data collection period for a grant for up to 72 months after the end of the project period and may provide a grantee with additional funding for the sole purpose of collecting, analyzing, and reporting performance measurement data regarding the project.

4. Performance Measures: The Secretary has established the following key performance measures for assessing the effectiveness and efficiency of the Formula Grants program: (1) The percentage of AI/AN students in grades four and eight who score at or above the basic level in reading on the National Assessment of Educational Progress (NAEP); (2) the percentage of AI/AN students in grades four and eight who score at or above the basic level in mathematics on the NAEP; (3) the percentage of AI/AN students in grades three through eight meeting State achievement standards by scoring at or above the proficient level in reading and mathematics on State assessments; (4) the difference between the percentage of AI/AN students in grades three through eight at or above the proficient level in reading and mathematics on State assessments and the percentage of all students scoring at those levels; (5) the percentage of AI/AN students who graduate from high school as measured by the four-year adjusted cohort graduation rate; and (6) the percentage of funds used by grantees prior to award close-out.

5. Integrity and Performance System: If you receive an award under this grant program that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the requirements in 2 CFR part 200, Appendix XII, require you to report certain integrity information to FAPIIS semiannually. Please review the requirements in 2 CFR part 200, Appendix XII, if this grant plus all the other Federal funds you receive exceed $10,000,000.

VI. Other Information

Accessible Format: Individuals with disabilities can obtain this document and a copy of the application package in an accessible format (e.g., braille, large print, audiotape, or compact disc) by contacting the EDFacts PSC listed under FOR FURTHER INFORMATION CONTACT.

Electronic Access to This Document: The official version of this document is published in the Federal Register. You may access the official edition of the Federal Register and the Code of Federal Regulations at www.govinfo.gov. At this site you can view this document, as well as other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: January 28, 2019.
Frank Brogan,
Assistant Secretary for Elementary and Secondary Education.

[FR Doc. 2019-00534 Filed 1-30-19; 8:45 am]

BILLING CODE 4000-01-P